ENVIRONMENTAL PROTECTION AGENCY

[FRL-9912-48-OAR]

Request for Nominations to the Clean Air Act Advisory Committee (CAAAC)

AGENCY: Environmental Protection Agency.

ACTION: Request for Nominations to the Clean Air Act Advisory Committee (CAAAC).

SUMMARY: The U.S. Environmental Protection Agency (EPA) invites nominations from a diverse range of qualified candidates to be considered for appointment to its Clean Air Act Advisory Committee (CAAAC). Vacancies are anticipated to be filled by February 2015.

Background: The Environmental Protection Agency (EPA) established the Clean Air Act Advisory Committee (CAAAC) on November 19, 1990, to provide independent advice and counsel to EPA on policy issues associated with implementation of the Clean Air Act of 1990. The Committee advises on economic, environmental, technical, scientific and enforcement policy issues. The programs falling under the purview of the committee include the National Ambient Air Quality Standards, emissions from vehicles and vehicle fuels, air toxic emissions, greenhouse gas emissions, operating permits and collecting fees, and other authorities. Members are appointed by the EPA Administrator for two-year terms with the possibility of reappointment to additional terms. The CAAAC usually meets two to three times annually and the average workload for the members is approximately 5 to 8 hours per month. Although we are unable to offer compensation or an honorarium for your services, you may receive travel and per diem allowances, according to applicable federal travel regulations. Additional information on these meetings, CAAAC and its Subcommittees can be found on the CAAAC Web site: http://www.epa.gov/air/caaac/.

EPA is seeking nominations from academia, industry, non-governmental/environmental organizations, state and local government agencies, tribal governments, unions, trade associations, utilities, and lawyers/consultants. EPA values and welcomes diversity. In an effort to obtain nominations of diverse candidates, EPA encourages nominations of women and men of all racial and ethnic groups.

The following criteria will be used to evaluate nominees:

—The background and experiences that would help members contribute to the diversity of perspectives on the committee (e.g., geographic, economic, social, cultural, educational, and other considerations

—Experience serving as an elected official;

—Experience serving as an appointed official for a state, county, city or tribe;

—Experience in working at the national level on local governments issues;

—Demonstrated experience with air quality policy issues;

—Executive management level experience with membership in broad-based networks;

—Excellent interpersonal, oral and written communication, and consensus-building skills.

—Ability to volunteer time to attend meetings 2-3 times a year, participate in teleconference meetings, attend listening sessions with the Administrator or other senior-level officials, develop policy recommendations to the Administrator, and prepare reports and advice letters.

EPA will not appoint any federally-registered lobbyists to the committee. In addition, EPA's policy is that, unless otherwise prescribed by statute, members generally are appointed to two-year terms.

Nominations: Nominations should include: A resume and a short biography describing the professional and educational qualifications of the nominee, as well as the nominee's current business address, email address, and daytime telephone number. In addition, nominees are invited to provide additional information that would be useful to EPA in considering the nominations, including a brief summary of the nominee's interest in air policy issues; the availability of the nominee to participate as a member of this committee; how the nominee's background, skills, and experience would contribute to the diversity of the committee; and any concerns the nominee may have regarding committee membership. Interested candidates may self-nominate. All information should be sent to Jeneva Craig, Designated Federal Officer, preferably electronically, to craig.jeneva@epa.gov. Hard copies may also be mailed to Jeneva Craig, U.S. EPA, Office of Air and Radiation, Mail code 6103A, 1200 Pennsylvania Ave. NW., Washington, DC 20460. U.S. EPA is accepting nominations until September 1, 2014.

FOR FURTHER INFORMATION CONTACT: Please contact Jeneva Craig, Office of Air and Radiation, U.S. EPA at craig.jeneva@epa.gov, at (202) 564-1674, or by mail at U.S. EPA, Office of Air and Radiation (Mail code 6103 A), 1200 Pennsylvania Avenue NW., Washington, DC 20460.

Dated: June 12, 2014.
Jeneva Craig,
Designated Federal Official, Clean Air Act Advisory Committee, Office of Air and Radiation.

[FR Doc. 2014-14246 Filed 6-17-14; 8:45 am]

BILLING CODE 6560-50-P